DEPARTMENT OF AGRICULTURE

Forest Service

Rogue and Umpqua Resource Advisory Committee

AGENCY: Forest Service, USDA.

ACTION: Notice of meetings.

SUMMARY: The Rogue and Umpqua Resource Advisory Committee (RAC) will meet in Roseburg, Oregon. The committee is authorized under the Secure Rural Schools and Community Self-Determination Act (Pub. L. 110-343) (the Act) and operates in compliance with the Federal Advisory Committee Act. The purpose of the committee is to improve collaborative relationships and to provide advice and recommendations to the Forest Service concerning projects and funding consistent with Title II of the Act. The meetings are open to the public. The purpose of the meetings is orient the new RAC members to their responsibilities, review and vote on project recommendations for Title II funding, and monitor existing projects.

DATES: The meetings will be held on the following dates:

• May 16, 2014 at 9:30 a.m.

• June 12, 2014 at 9:30 a.m.

• June 13, 2014 at 9 a.m.

• July 19, 2014 at 10 a.m.

All RAC meetings are subject to cancellation. For status of meetings prior to attendance, please contact the person listed under FOR FURTHER INFORMATION CONTACT.

ADDRESSES: The meetings will be held at the Umpqua National Forest (NF) Supervisor's Office, Diamond Lake Conference Room, 2900 Northwest Stewart Parkway, Roseburg, Oregon.

Written comments may be submitted as described under SUPPLEMENTARY INFORMATION. All comments, including names and addresses when provided, are placed in the record and are available for public inspection and copying. The public may inspect comments received at the Umpqua NF Supervisor's Office. Please call ahead to facilitate entry into the building.

FOR FURTHER INFORMATION CONTACT: Cheryl Caplan, RAC Coordinator, by phone at 541-957-3270 or via email at ccaplan@fs.fed.us.

Individuals who use telecommunication devices for the deaf (TDD) may call the Federal Information Relay Service (FIRS) at 1-800-877-8339 between 8:00 a.m. and 8:00 p.m., Eastern Standard Time, Monday through Friday. Please make requests in advance for sign language interpreting, assistive listening devices or other reasonable accommodation for access to the facility or proceedings by contacting the person listed above.

SUPPLEMENTARY INFORMATION: Additional RAC information, including meeting agendas and meeting summary/minutes can be found at the following Web site: https://fsplaces.fs.fed.us/fsfiles/unit/wo/secure_rural_schools.nsf/RAC/B5767FD7F4B63B0988256CCC0064DED3?OpenDocument. The meeting agenda for June 13, 2014 will include time for people to make oral statements of three minutes or less. Individuals wishing to make an oral statement during the meetings should request in writing by June 8, 2014 to be scheduled on the agenda. Anyone who would like to bring related matters to the attention of the committee may file written statements with the committee staff before or after the meeting. Written comments and requests for time for oral comments must be sent to Cheryl Caplan, RAC Coordinator, 2900 Northwest Stewart Parkway, Roesburg, Oregon, 97471; or by email to ccaplan@fs.fed.us, or via facsimile to 541-957-3495. Meeting Accommodations: If you are a person requiring reasonable accommodation, please make requests in advance for sign language interpreting, assistive listening devices or other reasonable accommodation for access to the facility or proceedings by contacting the person listed in the section titled FOR FURTHER INFORMATION CONTACT. All reasonable accommodation requests are managed on a case by case basis.

Dated: April 17, 2014.
Alice B. Carlton,
Umpqua Forest Supervisor.

[FR Doc. 2014-09403 Filed 4-24-14; 8:45 am]

BILLING CODE 3411-15-P